INTERNATIONAL TRADE COMMISSION

[USITC SE-05-005]

Sunshine Act Meeting

Agency Holding the Meeting: International Trade Commission.

Time and Date: March 3, 2005 at 11 a.m.

Place: Room 101, 500 E Street SW., Washington, DC 20436, Telephone: (202) 205-2000.

Status: Open to the public.

Matters to be Considered:

1. Agenda for future meetings: none.

2. Minutes.

3. Ratification List.

4. Inv. No. 731-TA-1089 (Preliminary) (Certain Orange Juice from Brazil)—briefing and vote. (The Commission is currently scheduled to transmit its determination to the Secretary of Commerce on March 7, 2005; Commissioners' opinions are currently scheduled to be transmitted to the Secretary of Commerce on or before March 14, 2005.)

5. Outstanding action jackets: none.

In accordance with Commission policy, subject matter listed above, not disposed of at the scheduled meeting, may be carried over to the agenda of the following meeting.

Issued: February 14, 2005.
By order of the Commission.
Marilyn R. Abbott,
Secretary to the Commission.

[FR Doc. 05-3145 Filed 2-15-05; 11:12 am]

BILLING CODE 7020-02-P